DEPARTMENT OF THE INTERIOR

Bureau of Land Management

[UT-090-07-1220-MV]

Notice of Closure of Public Lands to Off-Highway Vehicle (OHV) Use

AGENCY: Department of Interior, Bureau of Land Management.

ACTION: Notice of closure of 1,871 acres of public land to OHV use.

SUMMARY: Notice is hereby given that effective immediately, the Bureau of Land Management (BLM), Monticello Field Office, is closing 1,871 acres of public lands in Recapture Canyon near Blanding, Utah, to Off-Highway Vehicle (OHV) use. The public lands affected by this closure are in the following:

Salt Lake Meridian; Salt Lake Baseline; Township 37 South, Range 23 East, Section 5, SE ¼ of SW ¼; Section 6, NW ¼ of NE ¼, SW ¼ of NE ¼, NW ¼ of SE ¼, SW ¼ of SE ¼, SE ¼ of SE ¼, NE ¼ of NW ¼, SE ¼ of NW ¼, NE ¼ of SW ¼, SE ¼ of SW ¼, SW ¼ of SW ¼; Section 7, NE ¼ of NE ¼, SE ¼ of NE ¼, NW ¼ of NE ¼, SW ¼ of NE ¼, NE ¼ of SE ¼, SE ¼ of SE ¼, NW ¼ of SE ¼, SW ¼ of SE ¼; Section 8, NE ¼ of NW ¼, SE ¼ of NW ¼, NW ¼ of NW ¼, SW ¼ of NW ¼, NE ¼ of SW ¼, SE ¼ of SW ¼, NW ¼ of SW ¼, SW ¼ of SW ¼; Section 17, NE ¼ of NW ¼, SE ¼ of NW ¼, NW ¼ of NW ¼, SW ¼ of NW ¼, NE ¼ of SW ¼, SE ¼ of SW ¼, NW ¼ of SW ¼, SW ¼ of SW ¼; Section 18, NE ¼ of NE ¼, SE ¼ of NE ¼, NW ¼ of NE ¼, SW ¼ of NE ¼, NE ¼ of SE ¼, SE ¼ of SE ¼, NW ¼ of SE ¼, SW ¼ of SE ¼, NE ¼ of SW ¼, SE ¼ of SW ¼; Section 19, W ½ of NE ¼, E ½ of NE ¼, E ½ of SE ¼, NW ¼ of SE ¼, SW ¼ of SE ¼, NE ¼ of NW ¼, SE ¼ of NW ¼; Section 20, W ½ of NW ¼, NE ¼ of NW ¼, SE ¼ of NW ¼, NE ¼ of SW ¼, NW ¼ of SW ¼, SW ¼ of SW ¼; Section 29, N ½ of NW ¼; Section 30, NE ¼ of NE ¼. Township 36 South, Range 23 East, Section 19, NW ¼ of SE ¼, NE ¼ of SW ¼, NW ¼ of SW ¼, SW ¼ of SW ¼; Section 30, SW ¼ of NE ¼, NW ¼ of SE ¼, SW ¼ of SE ¼, NE ¼ of NW ¼, NW ¼ of NW ¼, SE ¼ of NW ¼, NE ¼ of SW ¼, SE ¼ of SW ¼; Section 31, NW ¼ of NE ¼, SW ¼ of NE ¼, NE ¼ of NW ¼, SE ¼ of NW ¼, NW ¼ of SE ¼, SW ¼ of SE ¼, NE ¼ of SW ¼, SE ¼ of SW ¼. Township 36 South, Range 22 East, Section 24, SE ¼ of SE ¼.

The purpose of the closure is to protect cultural resources that have been adversely impacted, or are at risk of being adversely impacted, by unauthorized trail construction and OHV use. The closure will remain in effect until the considerable adverse effects giving rise to the closure are eliminated and measures are implemented to prevent recurrence of these adverse effects.

FOR FURTHER INFORMATION CONTACT: Nick Sandberg, Acting Field Office Manager, Monticello Field Office, Bureau of Land Management, P.O. Box 7, Monticello, Utah, 84535; (435) 587-1500.

SUPPLEMENTARY INFORMATION: BLM is implementing this action on 1,871 acres of public land in San Juan County, in southeast Utah. BLM's Monticello Field Office has observed and documented considerable adverse effects from unauthorized trail construction and OHV use to cultural resources in this area. Based on this information, BLM's authorized officer has determined that OHV use in this area is causing, or will cause, considerable adverse effects upon cultural resources. Consequently, this area is being closed to OHV use. A map showing the closure area is available for public inspection at the Bureau of Land Management, Monticello Field Office at the above address. OHV use on the remainder of the public lands in San Juan County, Utah administered by BLM will be managed according to existing Federal Register orders and the 1991 San Juan Resource Management Plan.

This closure order does not apply to:

(1) Any federal, state or local government law enforcement officer engaged in enforcing this closure order or member of an organized rescue or fire fighting force while in the performance of an official duty.

(2) Any BLM employee, agent, or contractor while in the performance of an official duty, or any person expressly authorized by BLM.

This order shall not be construed as a limitation on BLM's future planning efforts and/or management of OHV use on the public lands. BLM will periodically monitor resource conditions and trends in the closure area and may modify or rescind this order as appropriate.

The authority for this order is 43 CFR 8341.2.

Sherwin N. Sandberg,
Acting Field Office Manager.

[FR Doc. E7-19700 Filed 10-4-07; 8:45 am]

BILLING CODE 4310-DQ-P